DEPARTMENT OF HOMELAND SECURITY

Federal Emergency Management Agency

44 CFR Part 67

[Docket ID FEMA-2011-0002; Internal Agency Docket No. FEMA-B-1202]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before October 5, 2011.

ADDRESSES: The corresponding preliminary Flood Insurance Rate Map (FIRM) for the proposed BFEs for each community is available for inspection at the community's map repository. The respective addresses are listed in the table below.

You may submit comments, identified by Docket No. FEMA-B-1202, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Clear Creek County, Colorado, and Incorporated Areas
Bear Creek | Approximately 0.42 mile downstream of Golden Willow Road | None | +7409 | Unincorporated Areas of Clear Creek County.
| At the downstream side of the Corral Creek confluence | None | +7549
Clear Creek | At the upstream side of the Georgetown Lake footbridge | +8450 | +8452 | Town of Georgetown, Unincorporated Areas of Clear Creek County.
| Approximately 1,980 feet upstream of 6th Street | None | +8636
South Clear Creek | Approximately 80 feet upstream of Rose Street | +8497 | +8498 | Town of Georgetown, Unincorporated Areas of Clear Creek County.
| Approximately 1,670 feet upstream of Main Street | None | +8697
South Clear Creek—Weir 1248 Overflow | Approximately 100 feet upstream of the South Clear Creek confluence | None | +8498 | Town of Georgetown.
| At the downstream side of the South Clear Creek divergence | None | +8517
South Clear Creek—Weir 835 Overflow | Approximately 170 feet upstream of the Clear Creek confluence | None | +8487 | Town of Georgetown.
| At the downstream side of the South Clear Creek divergence | None | +8507
Virginia Canyon | At the upstream side of Riverside Drive | +7522 | +7521 | City of Idaho Springs, Unincorporated Areas of Clear Creek County.
| Approximately 800 feet upstream of Virginia Street | None | +7655
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Idaho Springs
Maps are available for inspection at City Hall, 1711 Miner Street, Idaho Springs, CO 80452.
Town of Georgetown
Maps are available for inspection at the Town Hall, 404 6th Street, Georgetown, CO 80444.
Unincorporated Areas of Clear Creek County
Maps are available for inspection at the Clear Creek County Courthouse, 405 Argentine Street, Georgetown, CO 80444.
Edgecombe County, North Carolina, and Incorporated Areas
Bynum Mill Creek | At the Town Creek confluence | +49 | +48 | Town of Macclesfield, Town of Pinetops, Unincorporated Areas of Edgecombe County.
| At the downstream side of North Carolina Highway 124 | +84 | +83
Bynum Mill Run | At the Bynum Mill Creek confluence | +68 | +66 | Town of Macclesfield, Unincorporated Areas of Edgecombe County.
| Approximately 0.5 mile upstream of South 4th Street Extension (State Route 1112) | None | +95
Cokey Swamp | At the Town Creek confluence | +57 | +54 | Town of Sharpsburg, Unincorporated Areas of Edgecombe County.
| Approximately 70 feet downstream of the railroad | +119 | +118
Cokey Swamp Tributary | At the Cokey Swamp confluence | +89 | +88 | Unincorporated Areas of Edgecombe County.
| Approximately 450 feet upstream of Floods Store Road (State Route 1146) | None | +106
Deep Creek | Approximately 1.0 mile downstream of Dickens Road (State Route 1505) | +49 | +48 | Town of Speed, Unincorporated Areas of Edgecombe County.
| At the Deep Creek Tributary confluence | +57 | +56
East Tarboro Canal | Approximately 1,500 feet upstream of the Tar River confluence | +46 | +45 | Town of Tarboro, Unincorporated Areas of Edgecombe County.
| Approximately 590 feet upstream of the railroad | None | +57
Fishing Creek | Approximately 500 feet upstream of the Maple Swamp confluence | +50 | +49 | Town of Leggett, Unincorporated Areas of Edgecombe County.
| Approximately 1,000 feet downstream of the railroad | +96 | +95
Indian Branch | Approximately 175 feet downstream of Gay Road (State Route 1268) | +71 | +70 | Unincorporated Areas of Edgecombe County.
Leggett Canal | At the Swift Creek confluence | +56 | +58 | Town of Leggett, Unincorporated Areas of Edgecombe County.
| Approximately 0.7 mile upstream of the Swift Creek confluence | +57 | +58
Little Cokey Swamp | At the Cokey Swamp confluence | +82 | +80 | Unincorporated Areas of Edgecombe County.
| Approximately 250 feet downstream of Greenpasture Road (State Route 1141) | +92 | +93
Longs Branch | At the upstream side of the railroad | +55 | +54 | Town of Speed, Unincorporated Areas of Edgecombe County.
| Approximately 0.9 mile upstream of North Carolina Highway 122 | None | +63
Maple Swamp | At the Fishing Creek confluence | +50 | +49 | Unincorporated Areas of Edgecombe County.
| Approximately 0.6 mile downstream of Bethlehem Church Road (State Route 1431) | +60 | +59
Moccasin Swamp | At the Swift Creek confluence | +74 | +73 | Unincorporated Areas of Edgecombe County.
| Approximately 1.0 mile upstream of the Swift Creek confluence | +75 | +74
Moore Swamp | At the Maple Swamp confluence | +58 | +56 | Unincorporated Areas of Edgecombe County.
| Approximately 1.1 miles upstream of the Maple Swamp confluence | +59 | +58
Savage Mill Run | Approximately 250 feet downstream of North Carolina Highway 122 | +55 | +56 | Town of Speed, Unincorporated Areas of Edgecombe County.
| Approximately 1.2 miles upstream of North Carolina Highway 122 | +61 | +62
Swift Creek | Approximately 300 feet upstream of West Logsboro Road | +52 | +51 | Town of Leggett, Unincorporated Areas of Edgecombe County.
| Approximately 400 feet downstream of the railroad | +91 | +90
Town Creek | Approximately 2.0 miles upstream of Colonial Road (State Route 1601) | +41 | +40 | Town of Pinetops, Unincorporated Areas of Edgecombe County.
| Approximately 140 feet upstream of North Carolina Highway 43 | +59 | +57
White Oak Swamp | Approximately 1,500 feet downstream of White Oak Swamp Road (State Route 1428) | +61 | +62 | Town of Whitakers, Unincorporated Areas of Edgecombe County.
| Approximately 630 feet upstream of South Cutchin Street (State Route 1410) | #2 | +124
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Town of Leggett
Maps are available for inspection at the Leggett Town Hall, 63 Draughn Road, Tarboro, NC 27886.
Town of Macclesfield
Maps are available for inspection at the Edgecombe County Planning Department, 201 Saint Andrews Street, Room 205, Tarboro, NC 27886.
Town of Pinetops
Maps are available for inspection at the Town Hall, 101 East Hamlet Street, Pinetops, NC 27864.
Town of Sharpsburg
Maps are available for inspection at the Town Hall, 110 Railroad Street, Sharpsburg, NC 27878.
Town of Speed
Maps are available for inspection at the Town Hall, 200 Railroad Street, Speed, NC 27881.
Town of Tarboro
Maps are available for inspection at the Town Hall, 500 Main Street, Tarboro, NC 27886.
Town of Whitakers
Maps are available for inspection at the Town Hall, 302 Northwest Railroad Street, Whitakers, NC 27891.
Unincorporated Areas of Edgecombe County
Maps are available for inspection at the Edgecombe County Administration Building, 201 Saint Andrews Street, Tarboro, NC 27886.
Benton County, Tennessee, and Incorporated Areas
Big Sandy River Drainage Canal | Approximately 1.7 miles upstream of State Route 69A | None | +375 | Unincorporated Areas of Benton County.
| Approximately 0.5 mile upstream of U.S. Route 641 | None | +375
Burnside Creek | Approximately 150 feet downstream of Eva Road | +375 | +376 | City of Camden, Unincorporated Areas of Benton County.
| Approximately 0.4 mile upstream of Flatwoods Road | None | +441
Cane Creek | At the Cypress Creek confluence | +375 | +376 | City of Camden, Unincorporated Areas of Benton County.
| Approximately 0.6 mile upstream of Post Oak Road | None | +435
Charlie Creek | At the Cane Creek confluence | +378 | +377 | City of Camden, Unincorporated Areas of Benton County.
| Approximately 1,000 feet upstream of State Route 69A | None | +448
Cypress Creek | At the Cane Creek confluence | +375 | +376 | City of Camden, Unincorporated Areas of Benton County.
| Approximately 0.5 mile upstream of Old State Route 69 | None | +409
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Camden
Maps are available for inspection at City Hall, 110 U.S. Route 641 South, Camden, TN 38320.
Unincorporated Areas of Benton County
Maps are available for inspection at the Benton County Courthouse, 1 East Court Square, Room 104, Camden, TN 38320.

(Catalog of Federal Domestic Assistance No. 97.022, “Flood Insurance.”)

Dated: June 23, 2011.
Sandra K. Knight,
Deputy Federal Insurance and Mitigation Administrator, Mitigation, Department of Homeland Security, Federal Emergency Management Agency.

[FR Doc. 2011-17035 Filed 7-6-11; 8:45 am]

BILLING CODE 9110-12-P